DEPARTMENT OF ENERGY

Federal Energy Regulatory Commission

[Project No. 2030-036]

Portland General Electric and the Confederated Tribes of the Warm Springs Reservation of Oregon; Notice of Technical Conference

September 30, 2004.

Take notice that a technical conference will be held to discuss the Settlement Agreement and proposed draft license articles filed on July 30, 2004, by Portland General Electric and The Confederated Tribes of the Warm Springs Reservation of Oregon for the Pelton Round Butte Hydroelectric Project.

This conference will be held on Tuesday, October 19, 2004, beginning at 11 a.m. (EDT) at the Federal Energy Regulatory Commission, Hearing Room 6, 888 First Street, NE., Washington, DC 20426. Participation by video teleconference will be available at the 3 World Trade Center, Room 01A, 121 SW. Salmon Street, Portland, Oregon 97204.

All local, state, and federal agencies, Indian tribes, and other interested parties are invited to participate. There will be no transcript of the conference. Please contact Nick Jayjack at (202) 502-6073 or Nicholas.Jayjack@ferc.gov by October 15, 2004, to RSVP. Please indicate whether you will participate in-person or by video teleconference. If you have any questions related to participation by video teleconference, please contact Marty May of Portland General Electric at 503-464-7578.

Magalie R. Salas,
Secretary.

[FR Doc. E4-2503 Filed 10-5-04; 8:45 am]

BILLING CODE 6717-01-P